DEPARTMENT OF TRANSPORTATION

Federal Aviation Administration

[Summary Notice No. PE-2004-30]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on April 29, 2004.
Donald P. Byrne,
Assistant Chief Counsel for Regulations.

Dispositions of Petitions

Docket No.: FAA-2004-17380.

Petitioner: Mr. and Mrs. John Hicks.

Section of 14 CFR Affected: 14 CFR 121.311(b).

Description of Relief Sought/Disposition: To permit Katie Hicks, the daughter of Mr. and Mrs. John Hicks who is 4 years old, to be held on the lap(s) of her family members, rather than being in an individual seatbelt while traveling on an air carrier certificated under part 121 during all phases of flight.

Denial,4/16/2004, Exemption No. 8296

Docket No.: FAA-2003-16714.

Petitioner: Ward Air, Inc.

Section of 14 CFR Affected: 14 CFR 135.203(a)(1).

Description of Relief Sought/Disposition: To permit Ward Air, Inc., to conduct operations under visual flight rules outside controlled airspace, over water, at an altitude below 500 feet above the surface.

Grant, 4/15/2004, Exemption No. 8295

Docket No.: FAA-2004-17062.

Petitioner: Goodrich Aerostructures Group/Rohr, Inc.

Section of 14 CFR Affected: 14 CFR 21.325(b)(3).

Description of Relief Sought/Disposition: To permit Goodrich Aerostructures Group/Rohr, Inc., to issue U.S. export airworthiness approvals for Class II and Class III products from Rohr, Inc. facilities in France, Germany, Singapore, and the United Kingdom.

Grant, 4/7/2004, Exemption No. 8291

Docket No.: FAA-2002-11926.

Petitioner: Minneapolis Community & Technical College.

Section of 14 CFR Affected: 14 CFR 65.17(a), 65.19(b), and 65.75.

Description of Relief Sought/Disposition: To permit Minneapolis Community & Technical College to:

(1) Administer oral and practical tests to its students at times and places identified in its FAA-approved operations handbook,

(2) Allow students to apply for retesting within 30 days after failure without presenting a signed statement certifying additional instruction in the failed area,

(3) Administer the aviation mechanic general written test immediately after students successfully complete the general curriculum but before they meet the experience requirements of § 65.77, and

(4) Administer oral practical tests as an integral part of the aviation maintenance technician educational process rather than upon students' successful completion of the mechanic written tests.

Grant, 4/13/2004, Exemption No. 7771A

Docket No.: FAA-2004-17283.

Petitioner: Mr. Ronald John Zasadzinski.

Section of 14 CFR Affected: 14 CFR 91.109(a) and (b)(3).

Description of Relief Sought/Disposition: To permit Mr. Ronald John Zasadzinski to conduct certain flight training and to provide simulated instrument flight experience in certain Beech airplanes that are equipped with a functioning throwover control wheel.

Grant, 4/15/2004, Exemption No. 8292

Docket No.: FAA-2004-17236.

Petitioner: Mr. Ronald J. Timmermans.

Section of 14 CFR Affected: 14 CFR 91.109(a) and (b)(3).

Description of Relief Sought/Disposition: To permit Mr. Ronald J. Timmermans to conduct certain flight training and to provide simulated instrument flight experience in certain Beechcraft Bonanza airplanes that are equipped with a functioning throwover control wheel.

Grant, 4/15/2004, Exemption No. 8293

Docket No.: FAA-2004-17406.

Petitioner: Mr. Gerald A.Parker.

Section of 14 CFR Affected: 14 CFR 91.109(a) and (b)(3).

Description of Relief Sought/Disposition: To permit Mr. Gerald A. Parker to conduct certain flight training and to provide simulated instrument flight experience in certain Beech airplanes that are equipped with a functioning throwover control wheel.

Grant, 4/15/2004, Exemption No. 8294

Docket No.: FAA-2002-11887.

Petitioner: American Airlines Flight Academy.

Section of 14 CFR Affected: 14 CFR 121.440(a), and SFAR 58, paragraph 6(b)(3)(ii)(A).

Description of Relief Sought/Disposition: To permit American Airlines Flight Academy to meet line check requirements using an alternative line check program.

Grant, 4/13/2004, Exemption No. 5950E

Docket No.: FAA-2002-11402.

Petitioner: Experimental Aircraft Association.

Section of 14 CFR Affected: 14 CFR 61.58(a)(2) and 91.5.

Description of Relief Sought/Disposition: To permit Experimental Aircraft Association members to complete an approved training course in lieu of a pilot proficiency check for the following aircraft: Boeing B-17; North American B-25; Douglas B-26; C-47; and C-54; Consolidated PBY; Martin PBM; Grumman S-2-F; Curtiss C-46; and Ford Tri-Motor.

Grant, 4/13/2004, Exemption No. 4941H

Docket No.: FAA-2002-11716.

Petitioner: Falcon Aviation Consultants, Inc.

Section of 14 CFR Affected: 14 CFR 91.109(a) and (b)(3).

Description of Relief Sought/Disposition: To permit Falcon Aviation Consultants, Inc., flight instructors to conduct certain flight instruction to meet recent experience requirements in a Beechcraft Bonanza airplane equipped with a functioning throwover control wheel in place of functioning dual controls, subject to certain conditions and limitations.

Grant, 4/15/2004, Exemption No. 6803C

Docket No.: FAA-2004-17508.

Petitioner: West Isle Air, Inc.

Section of 14 CFR Affected: 14 CFR 135.143(c)(2).

Description of Relief Sought/Disposition: To permit West Isle Air, Inc., to operate certain aircraft under part 135 without a TSO-C112 (Mode S) transponder installed on those aircraft.

Grant, 4/12/2004, Exemption No. 8290

Docket No.: FAA-2004-17403.

Petitioner: Tri State Aero, Inc.

Section of 14 CFR Affected: 14 CFR 135.143(c)(2).

Description of Relief Sought/Disposition: To permit Tri State Aero, Inc., to operate certain aircraft under part 135 without a TSO-C112 (Mode S) transponder installed on those aircraft.

Grant, 4/12/2004, Exemption No. 8288

Docket No.: FAA-2004-17435.

Petitioner: Helicopter Consultants of Maui, Inc., d.b.a. Blue Hawaiian Helicopters.

Section of 14 CFR Affected: 14 CFR 135.143(c)(2).

Description of Relief Sought/Disposition: To permit Helicopter Consultants of Maui, Inc., d.b.a. Blue Hawaiian Helicopters to operate certain aircraft under part 135 without a TSO-C112 (Mode S) transponder installed on those aircraft.

Grant, 4/12/2004, Exemption No. 8289

Docket No.: FAA-2004-17569.

Petitioner: Great Lakes Helicopter, LLC.

Section of 14 CFR Affected: 14 CFR 135.143(c)(2).

Description of Relief Sought/Disposition: To permit Great Lakes Helicopter, LLC, to operate certain aircraft under part 135 without a TSO-C112 (Mode S) transponder installed on those aircraft.

Grant, 4/21/2004, Exemption No. 8297

Docket No.: FAA-2004-17576.

Petitioner: Flamingo Air, Inc.

Section of 14 CFR Affected: 14 CFR 135.143(c)(2).

Description of Relief Sought/Disposition: To permit Flamingo Air, Inc., to operate certain aircraft under part 135 without a TSO-C112 (Mode S) transponder installed on those aircraft.

Grant, 4/21/2004, Exemption No. 8298

Docket No.: FAA-2002-12108.

Petitioner: M and R Helicopters, LLC.

Section of 14 CFR Affected: 14 CFR 135.143(c)(2).

Description of Relief Sought/Disposition: To permit M and R Helicopters to operate certain aircraft under part 135 without a TSO-C112 (Mode S) transponder installed on those aircraft.

Grant, 4/21/2004, Exemption No. 7777A

Docket No.: FAA-2002-11941.

Petitioner: Grand Canyon Airlines.

Section of 14 CFR Affected: 14 CFR 135.143(c)(2).

Description of Relief Sought/Disposition: To permit Grand Canyon Airlines to operate certain aircraft under part 135 without a TSO-C112 (Mode S) transponder installed on those aircraft.

Grant, 4/21/2004, Exemption No. 6101D

Docket No.: FAA-2002-13165.

Petitioner: TransNorthern, LLC.

Section of 14 CFR Affected: 14 CFR 135.143(c)(2).

Description of Relief Sought/Disposition: To permit TransNorthern, LLC, to operate certain aircraft under part 135 without a TSO-C112 (Mode S) transponder installed on those aircraft.

Grant, 4/21/2004, Exemption No. 7882A

Docket No.: FAA-2001-10876.

Petitioner: Experimental Aircraft Association, Inc.

Section of 14 CFR Affected: 14 CFR 91.319(a)(2), 119.5(g), and 119.21(a).

Description of Relief Sought/Disposition: To permit the Experimental Aircraft Association, Inc., to operate its Spirit of St. Louis airplane and its Boeing B-17 for the purpose of carrying passengers for compensation or hire on local flights for educational and historical purposes.

Grant, 4/19/2004, Exemption No. 6541G

[FR Doc. 04-10116 Filed 5-3-04; 8:45 am]

BILLING CODE 4910-13-P